DEPARTMENT OF AGRICULTURE

Forest Service

Clarification of Direction on Safety Priorities During Wildland Firefighting Activities and Procedures for Emergency Consultation under the Endangered Species Act

AGENCY: Forest Service, USDA.

ACTION: Notice of issuance of agency interim directives.

SUMMARY: The Forest Service is issuing two interim directives to provide internal administrative direction to guide its employees during wildland firefighting activities. The interim directive issued to Forest Service Manual chapter FSM 5130, Wildland Fire Suppression, as ID number 5130-2002-1, clarifies existing direction to ensure that the safety of firefighters, other personnel, and the public is always the first priority in fire suppression. While this is already the current agency policy, the agency believes that the direction should be clarified and better stated. The interim directive issued to Forest Service Manual chapter FSM 2670, Threatened, Endangered, and Sensitive Plants and Animals, as ID number 2670-2002-1, clarifies and expands existing direction to facilitate emergency consultation under the Endangered Species Act. This interim directive makes clear that human safety is the highest priority for every emergency response action, and under no circumstances should an emergency response action be delayed in order to contact the Fish and Wildlife Service or the National Marine Fisheries Service for initiating emergency consultation or during an ongoing consultation. The agency will consider any comments received in the development of final directives.

DATES: The interim directives are effective May 21, 2002.

ADDRESSES: The interim directives are available electronically from the Forest Service via the World Wide Web/Internet at http://www.fs.fed.us/im/directives. Single paper copies of the interim directives also are available for ID 5130-2002-1 by contacting Shelly Steen, National Interagency Fire Center, 3833 South Development Avenue, Boise, Idaho 83705 (telephone 208-387-5100), and for ID 2670-2002-1 by contacting Tina Kingsberry, Forest Service, USDA, Watershed, Fish, Wildlife, Air, and Rare Plants Staff, Stop Code 1121, 1400 Independence Avenue SW., Washington, DC 20250-1121 (telephone 202-205-1205). Members of the public who wish to comment on the interim directives may mail their written comments in paper format to these addresses or send them electronically to directivecomment@fs.fed.us.

FOR FURTHER INFORMATION CONTACT: Shelly Steen (208-387-5100) or Tina Kingsberry (202-205-1205).

Dated: May 14, 2002.
Sally Collins,
Associate Chief.

[FR Doc. 02-12719 Filed 5-20-02; 8:45 am]

BILLING CODE 3410-11-P